DEPARTMENT OF COMMERCE

National Oceanic and Atmospheric Administration

50 CFR Part 660

[Docket No. 200902-0231]

RIN 0648-BJ05

Fisheries Off West Coast States; West Coast Salmon Fisheries; Rebuilding Coho Salmon Stocks

AGENCY: National Marine Fisheries Service (NMFS), National Oceanic and Atmospheric Administration (NOAA), Commerce.

ACTION: Proposed rule; request for comments.

SUMMARY: NMFS proposes to approve and implement rebuilding plans recommended by the Pacific Fishery Management Council (Council) for three overfished stocks: Juan de Fuca, Queets, and Snohomish natural coho salmon (collectively, the overfished coho stocks). NMFS determined in June 2018 that these stocks were overfished. NMFS also announces the availability for public review and comment of a draft environmental assessment (EA) analyzing the environmental impacts of implementing these rebuilding plans.

DATES: Public comments must be received by November 2, 2020.

ADDRESSES: You may submit comments on this document, identified by NOAA-NMFS-2019-0138, by any of the following methods:

• Electronic Submission: Submit all electronic public comments via the Federal e-Rulemaking Portal. Go to www.regulations.gov/#!docketDetail;D=NOAA-NMFS-2019-0138, click the “Comment Now!” icon, complete the required fields, and enter or attach your comments.

• Mail: Peggy Mundy, NMFS West Coast Region, Sustainable Fisheries Division 7600 Sand Point Way NE, Seattle, WA 98115.

Instructions: Comments sent by any other method, to any other address or individual, or received after the end of the comment period, may not be considered by NMFS. All comments considered are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

The Council and NMFS prepared a draft environmental assessment (EA) which includes a regulatory flexibility analysis for each of the three overfished coho stock rebuilding plans. Electronic copies of these documents may be obtained from the West Coast Regional Office website at https://www.fisheries.noaa.gov/west-coast/laws-and-policies/west-coast-region-national-environmental-policy-act-documents.

FOR FURTHER INFORMATION CONTACT: Peggy Mundy at 206-526-4323.

SUPPLEMENTARY INFORMATION:

Background

The Magnuson-Stevens Fishery Conservation and Management Act (MSA) established a national program for the conservation and management of the fishery resources of the United States to prevent overfishing and to rebuild overfished stocks. To that end, the MSA requires fishery management plans (FMPs) to specify objective and measurable criteria for identifying when the fishery to which the FMP applies is overfished (MSA section 303(a)(10)). The MSA includes national standards which must be followed in any FMP. NMFS has developed guidelines, based on the national standards, to assist in the development and review of FMPs, amendments, and regulations prepared by the Councils and the Secretary (50 CFR 600.305(a)(1)). National Standard 1 (NS1) addresses the need under the MSA for FMPs to specify conservation and management measures that shall prevent overfishing while achieving, on a continuing basis, the optimum yield from each fishery for the U.S. fishing industry (50 CFR 600.310). The NS1 guidelines include status determination criteria (SDC) and other reference points that are used to determine if overfishing has occurred, or if the stock or stock complex is overfished (50 CFR 600.310(e)(2)), and specifies Council actions required to address overfishing and rebuilding for stocks and stock complexes (50 CFR 600.310(j)).

Ocean salmon fisheries in the exclusive economic zone (EEZ) (3 to 200 nautical miles offshore) off Washington, Oregon, and California are managed under the Pacific Fishery Management Council's (Council) Pacific Coast Salmon FMP (Salmon FMP). The Salmon FMP identifies stocks that are in the fishery and the SDC and reference points that are used to determine when a stock is overfished and when it is rebuilt. For salmon, these metrics are based on the stock's spawning escapement (i.e., fish that escape the ocean and in-river fisheries to spawn) and the abundance of adult spawners that is expected, on average, to produce maximum sustained yield (MSY), which is expressed as SMSY.

The SDC for overfished is defined in the Salmon FMP to be when the three-year geometric mean of a salmon stock's annual spawning escapements falls below the reference point known as the minimum stock size threshold (MSST), where MSST is generally defined as 0.5*SMSY or 0.75*SMSY—depending on the stock. The default SDC in the Salmon FMP for determining that an overfished stock is rebuilt is when the three-year geometric mean spawning escapement exceeds SMSY. Stock-specific values for the SMSY and MSST reference points are listed in Table 3-1 of the Salmon FMP, which is available on the Council's website (www.pcouncil.org). The status of salmon stocks is assessed annually. When NMFS determines that a stock is overfished, by virtue of meeting the overfished criteria in the Salmon FMP, described above, NMFS notifies the Council. The MSA requires Councils to develop and implement a rebuilding plan within two years of being notified by NMFS that a stock is overfished.

In 2018, NMFS determined that two stocks of Chinook salmon and three stocks of coho salmon were overfished (83 FR 38292, August 6, 2018). NMFS published a proposed rule to approve the Council's rebuilding plans for the two Chinook salmon stocks and amend 50 CFR part 660 to add § 660.413 Overfished species rebuilding plans (85 FR 6135, February 4, 2020).

Overfished Determination for Three Coho Stocks

The annual stock assessments for the three overfished coho stocks in 2018 used escapement data for 2014 through 2016 to determine if the stocks were overfished. The three-year geometric mean spawning escapement for Juan de Fuca coho for the period 2014-2016 was 6,842, which is less than the stock's MSST of 7,000 (Table 1). The three-year geometric mean spawning escapement for Queets coho for the period 2014-2016 was 4,291, which is less than the stock's MSST of 4,350 (Table 1). The three-year geometric mean spawning escapement for Snohomish coho for the period 2014-2016 was 29,677, which is less than the stock's MSST of 31,000. NMFS notified the Council that these stocks were overfished on June 18, 2018, and the overfished determinations were announced in the Federal Register on August 6, 2018 (83 FR 38292). To be determined to be rebuilt, these stocks must achieve a three-year geometric mean escapement of SMSY or greater. SMSY for Juan de Fuca coho is 11,000. SMSY for Queets coho is 5,800. SMSY for Snohomish coho is 50,000.

Table 1—Reference Points and 2014-2016 Geometric Mean Spawning Escapement for Juan de Fuca, Queets, and Snohomish Natural Coho
Coho stock | Spawning escapement: 2014-2016 Geometric mean | Spawning escapement: MSST (overfished threshold) | Spawning escapement: SMSY (target for rebuilt)
Juan de Fuca | 6,842 | 7,000 | 11,000
Queets | 4,291 | 4,350 | 5,800
Snohomish | 29,677 | 31,000 | 50,000

Fishery Management for the Overfished Coho Stocks

U.S. ocean salmon fisheries impact the three coho stocks in the EEZ north of Cape Falcon, OR. These stocks are also harvested in ocean fisheries off Alaska, British Columbia, and in Washington state waters, including the Strait of Juan de Fuca and Puget Sound. Management of these stocks is subject to the provisions of the Pacific Salmon Treaty Act, which implements the Pacific Salmon Treaty (PST) between the U.S. and Canada, and also must be consistent with Indian tribal treaty fishing rights. The State of Washington and Indian tribes with reserved fishing rights on the Washington Coast and in Puget Sound negotiate annual fisheries through the North of Falcon Process and under the auspices of Hoh v. Baldrige and U.S. v. Washington. Salmon fisheries under the jurisdiction of the Council (Council-managed) are managed to meet agreed upon exploitation rates (i.e., proportion of potential spawners removed by fishing) and escapement goals set under the PST and the North of Falcon Process for several salmon stocks, including the three overfished coho stocks. Total fishing mortality for these coho stocks includes preterminal (i.e., fisheries impacts outside a given stock's natal river or estuary, including mixed-stock ocean fisheries) and terminal (i.e., fisheries impacts within a given stock's natal river or estuary). These exploitation rates, or stepped harvest rates, are set annually based on forecast stock abundance, as described below for each stock (see Rebuilding Plans). In addition to these exploitation rates, Council salmon fisheries are also managed to meet conservation objectives and status determination criteria specified in the Salmon FMP under Amendment 16 (76 FR 81851, December 29, 2011). However, annual natural spawning escapement targets for many Washington coast and Puget Sound salmon stocks, including the three overfished coho stocks, may vary from Salmon FMP conservation objectives if agreed to by the Washington tribal and state co-managers, under the provisions of Hoh v. Baldrige, U.S. v. Washington, or subsequent U.S. District Court orders (Table 3-1 of the Salmon FMP).

Juan de Fuca natural coho. The Juan de Fuca coho stock contributes to U.S. ocean salmon fisheries north of Cape Falcon and to ocean salmon fisheries off British Columbia, and to marine and freshwater Puget Sound salmon fisheries. For the period 2004-2017, the total exploitation rate on Juan de Fuca coho averaged 10.5 percent, distributed as follows: Alaskan and Canadian ocean salmon fisheries—23 percent, Council-managed ocean salmon fisheries—23 percent, and other preterminal and terminal salmon fisheries (primarily sport, net, and troll fisheries in the Strait of Juan de Fuca)—54 percent.

Queets natural coho. The Queets coho stock contributes to ocean salmon fisheries off of British Columbia and Washington state, as well as Washington coast in-river salmon fisheries. For the period 2004-2017, the total exploitation rate on Queets coho averaged 38.5 percent, distributed as follows: Alaskan and Canadian ocean salmon fisheries—8 percent, Council-managed ocean salmon fisheries—20 percent, and other preterminal and terminal salmon fisheries (including freshwater sport and net fisheries in the Quinault, Hoh, and Queets Rivers on the Washington coast)—72 percent.

Snohomish natural coho. The Snohomish coho stock contributes to U.S. ocean salmon fisheries north of Cape Falcon and to ocean salmon fisheries off British Columbia, and to marine and freshwater Puget Sound salmon fisheries. For the period 2004-2017, the total exploitation rate on Snohomish coho averaged 24.4 percent, distributed as follows: Alaskan and Canadian ocean salmon fisheries—5 percent, Council-managed ocean salmon fisheries—9 percent, and other preterminal and terminal salmon fisheries within Puget Sound—86 percent.

Rebuilding Plans

The Council transmitted their recommended rebuilding plans for the three overfished coho stocks to NMFS on October 17, 2019. The plans were developed over the course of several Council meetings in 2018 and 2019 and were informed by the analyses of the Council's Salmon Technical Team (STT). The STT held public meetings and work sessions with state and Federal agencies, tribal governments, and the general public to assess available information on various factors that could impact the productivity of these stocks and lead to the overfished determination. These factors include: Freshwater survival, marine survival, harvest impacts, and assessment and fishery management errors.

Overfishing on the three overfished coho stocks, defined as the exploitation rate on a stock exceeding the maximum fishing mortality threshold (MFMT), did not occur during the years that lead to the overfished determination. The STT's report concluded that the overfished situation for these stocks was primarily the result of poor marine survival; abundance in 2015 was substantially lower than anticipated in preseason forecasts for many Washington coho stocks. Freshwater habitat conditions and fishery management may have exacerbated the problem caused by low marine survival, but these were not identified in the STT's report as the proximate cause of the overfished status of any of the three coho stocks. Based on 2015-2017 abundance, Juan de Fuca coho would likely have met the overfished criteria even in the absence of fishing in that time period. The STT's report is contained within the draft EA (see ADDRESSES).

The Council considered two alternatives for the rebuilding plan for each stock: (1) The existing control rule and (2) a buffered exploitation rate or escapement goal. The Council's recommendations for rebuilding the overfished coho stocks, which NMFS proposes to approve, are to maintain the existing control rules for Juan de Fuca coho and Queets coho, and to manage for a ten-percent buffer on the SMSY escapement goal for Snohomish coho. Each of the three rebuilding plans recommended by the Council meets the MSA requirement to rebuild the stock as quickly as possible, taking into account the status and biology of any overfished stock and the needs of fishing communities (50 CFR 600.310(j)(3)(i)).

When a stock or stock complex is overfished, a Council must specify a time period for rebuilding the stock or stock complex based on factors specified in MSA section 304(e)(4). This target time for rebuilding (Ttarget) shall be as short as possible, taking into account: The status and biology of any overfished stock, the needs of fishing communities, recommendations by international organizations in which the U.S. participates, and interaction of the stock within the marine ecosystem. In addition, the time period shall not exceed 10 years, except where biology of the stock, other environmental conditions, or management measures under an international agreement to which the U.S. participates, dictate otherwise (50 CFR 600.310(j)(3)(i)). The NS1 guidelines also describe the following rebuilding benchmarks: The minimum time to rebuild (Tmin) and the maximum time to rebuild (Tmax) (50 CFR 600.310(j)(3)(i)). These benchmarks serve to establish the range of target times to rebuild that the Council may consider. Under the NS1 guidelines, Tmin is calculated by assuming no fishery mortality, regardless of the source of the mortality. It is not possible, however, for the Council and NMFS to implement a Tmin scenario for the overfished coho stocks, because the MSA only provides regulatory authority over fisheries in the EEZ. Therefore, the Council and NMFS have no authority to suspend non-federal fisheries in state waters. However, the Council analyzed a no-fishing scenario to identify Tmin and to serve as a bookend in the analysis of rebuilding probabilities.

Council-area salmon fisheries management measures are set annually each April. The Council's Stock Assessment and Fishery Evaluation Document for the Pacific Coast Salmon Fishery Management Plan (SAFE document) is released annually in February and provides escapement data for previous years. Analyses to determine rebuilding times in the Council's recommended rebuilding plans used available escapement data in the SAFE document issued February 2019, which included escapement data for the overfished coho stocks through 2017. Year 1 in the STT's calculations of Tmin and Ttarget was defined as 2018. This convention was adopted due to data availability, as the most recent estimates of ocean abundance and spawning escapement for the three overfished coho stocks were from 2017. Rebuilding times projected by the STT assume the control rules defined in the alternatives were first applied to 2018 fisheries, and each of the nine years thereafter; however, the STT and the Council acknowledged that adopted rebuilding plans were likely be first implemented in 2020.

Juan de Fuca Natural Coho

Tmin. The Council's analysis determined that, with no fishing mortality, there was a 54 percent probability that Juan de Fuca coho would rebuild in four years. Therefore, Tmin = four years or 2021.

Tmax. NS1 guidelines state that if Tmin for the stock or stock complex is 10 years or less, then Tmax is 10 years (50 CFR 600.310(j)(3)(i)(B)(1)). Since Tmin for Juan de Fuca coho is four years or 2021, Tmax = 10 years or 2027.

Ttarget. The Council has recommended the existing control rule to rebuild Juan de Fuca coho. As described above, this stock is managed using a stepped harvest rate control rule which sets annual exploitation rate ceilings based upon forecast stock abundance. Applying that control rule to Juan de Fuca coho results in a matrix of age-3 ocean abundance and total allowable exploitation rates that the Council uses when developing annual management measures (coho salmon from stocks managed under the FMP mature at age 3 years) (Table 2).

Table 2—Matrix Informed by the Current FMP Harvest Control Rule Applied to Juan de Fuca Coho
Abundance category | Age-3 ocean abundance | Total allowable exploitation rate (percent)
Normal | Greater than 27,445 | 60
Low | Between 11,679 and 27,445 | 40
Critical | 11,679 or less | 20

In the seven years for which we have escapement data for Juan de Fuca coho since the implementation of Amendment 16 (2012 through 2018), two of those years had escapement above SMSY.

The Council's analysis, contained in the draft EA (see ADDRESSES), used 2018 as year one in calculating Ttarget. Under the existing control rule, there is a 56 percent probability that Juan de Fuca coho will meet the rebuilt criteria by year six (Ttarget = 2023). This means that the three-year geometric mean of Juan de Fuca coho escapement for 2021-2023 is expected to meet or exceed SMSY. The spawning escapement from 2023 will be included in the 2025 stock assessment.

MSA consistency. As mentioned above, the MSA requires overfished stocks to be rebuilt in as short a time as possible, while taking into account the needs of fishing communities. The Council considered an alternative that would limit the annual exploitation rate on Juan de Fuca coho in Southern U.S. salmon fisheries (i.e., ocean and inland salmon fisheries south of the U.S./Canada border, including Council area, State, and tribal fisheries) to 10 percent until the stock is rebuilt. The Council's analysis of this alternative estimated this would result in an economic loss of $4.34 million over the rebuilding period (in 2016 dollars), not including losses in tribal fisheries, compared to the existing control rule. This alternative would rebuild Juan de Fuca coho one year earlier than under the existing control rule; the Council's analysis indicates that Ttarget would be achieved in 2022 under this alternative. Therefore, taking into account the negative economic impacts of the limited exploitation rate alternative and the minimal difference in rebuilding time, the existing control rule meets the MSA requirement to have a rebuilding period that is as short as possible while considering the needs of fishing communities.

Queets Natural Coho

Tmin. The Council's analysis determined that, with no fishing mortality, there was a 61 percent probability that Queets coho would rebuild in one year. Therefore, Tmin = one year or 2018.

Tmax. NS1 guidelines state that if Tmin for the stock or stock complex is 10 years or less, then Tmax is 10 years (50 CFR 600.310(j)(3)(i)(B)(1)). Since Tmin for Queets coho is one year or 2018, Tmax = 10 years or 2027.

Ttarget. The Council has recommended the existing control rule to rebuild Queets coho. As described above, this stock is managed using a stepped harvest rate control rule which sets annual exploitation rate ceilings based upon forecast stock abundance. Applying that control rule to Queets coho results in a matrix of age-3 ocean abundance and total allowable exploitation rates that the Council uses when developing annual management measures (Table 3).

Table 3—Matrix Informed by the Current FMP Harvest Control Rule Applied To Queets Coho
Abundance category | Age-3 ocean abundance | Total allowable exploitation rate (percent)
Normal | Greater than 9,667 | 41-65
Low | Between 7,250 and 9,667 | 21-40
Critical | Less than 7,250 | Up to 20

In the seven years for which we have escapement data for Queets coho since the implementation of Amendment 16 (2012 through 2018), one of those years had escapement above SMSY.

The Council's analysis, contained in the draft EA (see ADDRESSES), used 2018 as year one in calculating Ttarget. Under the existing control rule, the Council's analysis determined there was a 54 percent probability that Queets coho would meet the rebuilt criteria by year two (Ttarget = 2019). This means that the three-year geometric mean of Queets coho escapement for 2017-2019 is expected to meet or exceed SMSY. Because of the timing of coho spawning, there is a delay in the availability of coho escapement data; for example, the Council's Review of 2019 Ocean Salmon Fisheries (February 2020) included coho spawning escapement through 2018. The 2019 spawning escapement for Queets coho, and the 2017-2019 escapement geometric mean, will be available in February 2021 in the Council's Review of 2020 Ocean Salmon Fisheries. The Council's annual reviews of ocean salmon fisheries are available on the Council's website (www.pcouncil.org).

MSA consistency. As mentioned above, the MSA requires overfished stocks to be rebuilt in as short a time as possible, while taking into account the needs of fishing communities. The Council considered an alternative that would buffer the existing control rule for Queets coho by limiting the total exploition rate at forecast ocean age-3 abundance between 5,800 and 7,250, beginning at 15 percent and ramping linearly to 20 percent. During the preseason process, if spawning escapement is projected to be less than 4,930 (85 percent of SMSY), the non-treaty Council-area fisheries north of Cape Falcon, OR, would be structured to minimize impacts on Queets coho. The Council's analysis of this alternative estimated this would result in an economic loss of $1.28 million over the rebuilding period (in 2016 dollars), not including losses in tribal fisheries, compared to the existing control rule. This alternative would not improve the rebuilding time compared to the existing control rule; the Council calculated Ttarget would be achieved in 2019 under the buffered control rule, the same as under the existing control rule. Therefore, due to the negative economic impacts of the buffered control rule alternative and negligible difference in rebuilding time, NMFS and the Council found that the existing control rule meets the MSA requirement to have a rebuilding period that is as short as possible while considering the needs of fishing communities.

Snohomish Natural Coho

Tmin. The Council's analysis determined that, with no fishing mortality, there was a 78 percent probability that Snohomish coho would rebuild in three years. Therefore, Tmin = three years or 2020.

Tmax. NS1 guidelines state that if Tmin for the stock or stock complex is 10 years or less, then Tmax is 10 years (50 CFR 600.310(j)(3)(i)(B)(1)). Since Tmin for Snohomish coho is three years or 2020, Tmax = 10 years or 2027.

Ttarget. The Council has recommended a rebuilding plan that uses a buffered control rule to rebuild Snohomish coho as the preferred alternative. As described above, this stock is managed using a stepped harvest rate control rule which sets annual exploitation rate ceilings based upon forecast stock abundance. Applying that control rule to Snohomish coho results in a matrix of age-3 ocean abundance and total allowable exploitation rates that the Council uses when developing annual management measures (Table 4, below). In the seven years for which we have escapement data for Snohomish coho since the implementation of Amendment 16 (2012 through 2018), three of those years had escapement above SMSY.

Under the preferred alternative rebuilding plan, Council-area salmon fisheries would limit impacts on Snohomish natural coho consistent with escapement thresholds and exploitation rate limits identified by the Washington tribal and state co-managers, and consistent with the Salmon FMP. The tribal and state co-managers will increase the annual MSY escapement goal of 50,000 by 10 percent, to 55,000, until rebuilt status is achieved and adjust the age-3 ocean abundance break points that establish the annual allowable exploitation rate, as shown in Table 4.

Table 4—Matrix for Setting Annual Allowable Exploitation Rate on Snohomish Coho Under the Current FMP Harvest Control Rule and the Proposed Rebuilding Plan
Abundance category | Age-3 ocean abundance: FMP control rule | Age-3 ocean abundance: Proposed rebuilding plan | Total allowable exploitation rate (percent)
Normal | Greater than 125,000 | Greater than 137,500 | 60
Low | Between 51,667 and 125,000 | Between 51,667 and 137,500 | 40
Critical | Less than 51,667 | Less than 51,667 | 20

The Council's analysis, contained in the draft EA (see ADDRESSES), used 2018 as year one in calculating Ttarget. Under the Council's preferred alternative rebuilding plan, there is a 62 percent probability that Snohomish coho will meet the rebuilt criteria by year three (Ttarget = 2020). This means that the three-year geometric mean of Snohomish coho escapement for 2018-2020 is expected to meet or exceed SMSY. The spawning escapement from 2020 will be included in the 2022 stock assessment.

MSA consistency. As mentioned above, the MSA requires overfished stocks to be rebuilt in as short a time as possible, while taking into account the needs of fishing communities. The Council considered an alternative that would use the existing control rule for Snohomish coho as well as the preferred alternative. The Council's analysis of the alternatives estimates that the preferred alternative would result in an economic loss of $432 thousand over the rebuilding period (in 2016 dollars), not including losses in tribal fisheries, compared to no such loss under the existing control rule. The rebuilding time under both the status quo alternative (existing control rule) and the preferred alternative rebuilding plan would have the same rebuilding time; the Council calculated Ttarget would be achieved in 2020 under both alternatives. The state and tribal co-managers supported the Council's preferred alternative rebuilding plan, and the fishing communities did not oppose it. The preferred alternative rebuilding plan has the same Ttarget as the status quo alternative and is supported by fishery managers and fishing communities, and therefore meets the MSA requirement to have a rebuilding period that is as short as possible while considering the needs of fishing communities.

National Environmental Policy Act (NEPA)

The draft EA for this action is an integrated document that includes the Council's analysis of the overfished stocks, analysis of environmental and socioeconomic effects under NEPA, the regulatory impact review, and regulatory flexibility analysis. The draft EA for this action is posted on the NMFS West Coast Region website (see ADDRESSES).

Classification

Pursuant to section 304(b)(1)(A) of the MSA, the NMFS Assistant Administrator has determined that this proposed rule is consistent with the Pacific Coast Salmon Fishery Management Plan, other provisions of the MSA, and other applicable law, subject to further consideration after public comment.

This proposed rule has been determined to be not significant for purposes of Executive Order 12866.

This proposed rule is not an Executive Order 13771 regulatory action because this rule is not significant under Executive Order 12866.

The Chief Counsel for Regulation of the Department of Commerce certified to the Chief Counsel for Advocacy of the Small Business Administration that this proposed rule, if adopted, would not have a significant economic impact on a substantial number of small entities.

Using the catch area description in the Pacific States Marine Fisheries Commission Information Network (PacFIN), the most recent year of complete fishing data, 2018, NMFS determined that 357 distinct commercial vessels land fish caught north of Cape Falcon. The Council's 2020 SAFE document lists ex-vessel value for 2018 salmon landings in Washington state at $2.4 million (in 2019 dollars). Therefore, no vessel met NMFS' threshold for being a large entity, which is $11 million in annual gross receipts. We note, however, that the rebuilding plans implemented by this proposed rule would not change harvest policy, and, thus, by definition, would have no direct or indirect economic impact on these small entities.

Because all directly regulated entities are small, these regulations are not expected to place small entities at a significant disadvantage in comparison with large entities. The Council recommended, and NMFS proposes approving, the status quo alternatives for the Juan de Fuca coho rebuilding plan and the Queets coho rebuilding plan. The state and tribal co-managers recommended, and NMFS proposes approving a rebuilding plan that includes a buffered SMSY target for Snohomish coho. These rebuilding plans are consistent with the provisions of the existing Salmon FMP. Therefore, this proposed rule to approve and implement the rebuilding plans, consistent with the parameters required under NS1, is largely administrative. This action does not change salmon harvest policy, and economic activity is not expected to change from the baseline at all for Juan de Fuca coho and Queets coho, and is expected to change only minimally, as described above, for Snohomish coho. Therefore, this action is also not expected to significantly reduce profit for the directly regulated small entities. As a result, an initial regulatory flexibility analysis is not required and none has been prepared.

This proposed rule was developed after meaningful collaboration with the tribal representative on the Council, and the Council subsequently agreed with the provisions that apply to tribal vessels.

This proposed rule does not include a collection-of-information requirement subject to the Paperwork Reduction Act.

List of Subjects in 50 CFR Part 660

Fisheries, Fishing, Recordkeeping and reporting requirements.

Dated: September 2, 2020.
Samuel D. Rauch, III,
Deputy Assistant Administrator for Regulatory Programs, National Marine Fisheries Service.

For the reasons set out in the preamble, the National Oceanic and Atmospheric Administration proposes to amend 50 CFR part 660 as follows:

PART 660—FISHERIES OFF WEST COAST STATES

1. The authority citation for part 660 continues to read as follows:

Authority: 16 U.S.C. 1801 et seq., 16 U.S.C. 773 et seq., and 16 U.S.C. 7001 et seq.

2. In § 660.413 (proposed to be added at 85 FR 6135), add paragraphs (c) through (e) to read as follows:

§ 660.413 Overfished species rebuilding plans.

* * * * *

(c) Juan de Fuca coho. The Juan de Fuca coho salmon stock was declared overfished in 2018. The target year for rebuilding Juan de Fuca coho is 2023. The harvest control rule during the rebuilding period for Juan de Fuca coho is the abundance-based stepped harvest rate as shown in table 1 to this paragraph (c).

Table 1 to Paragraph (c)
Juan de Fuca coho stepped harvest rates: Abundance category | Juan de Fuca coho stepped harvest rates: Age-3 ocean abundance | Juan de Fuca coho stepped harvest rates: Total allowable exploitation rate (percent)
Normal | Greater than 27,445 | 60
Low | Between 11,679 and 27,445 | 40
Critical | 11,679 or less | 20

(d) Queets coho. The Queets coho salmon stock was declared overfished in 2018. The target year for rebuilding Queets coho is 2019. The harvest control rule during the rebuilding period for Queets coho is the abundance-based stepped harvest rate as shown in table 2 to this paragraph (d).

Table 2 to Paragraph (d)
Queets coho stepped harvest rates: Abundance category | Queets coho stepped harvest rates: Age-3 abundance | Queets coho stepped harvest rates: Total allowable exploitation rate
Normal | Greater than 9,667 | 65
Low | Between 7,250 and 9,667 | 40
Critical | Less than 7,250 | 20

(e) Snohomish coho. (1) The Snohomish coho salmon stock was declared overfished in 2018. The target year for rebuilding Snohomish coho is 2020. The harvest control rule during the rebuilding period for Snohomish coho is the abundance-based stepped harvest rate as shown in table 3 to this paragraph (e).

Table 3 to Paragraph (e)
Snohomish coho stepped harvest rates: Abundance category | Snohomish coho stepped harvest rates: Age-3 abundance | Snohomish coho stepped harvest rates: Total allowable exploitation rate (percent)
Normal | Greater than 137,000 | 60
Low | Between 51,667 and 137,000 | 40
Critical | Less than 51,667 | 20

(2) In years when Snohomish coho abundance is forecast to exceed 137,000, the total allowable exploitation rate will be limited to target achieving a spawning escapement of 55,000 Snohomish coho.

[FR Doc. 2020-19884 Filed 9-30-20; 8:45 am]

BILLING CODE 3510-22-P